DEPARTMENT OF THE INTERIOR

National Park Service

Notice of Intent to Repatriate Cultural Items: Peabody Museum of Archaeology and Ethnology, Harvard University, Cambridge, MA

AGENCY: National Park Service, Interior.

ACTION: Notice.

Notice is here given in accordance with the Native American Graves Protection and Repatriation Act (NAGPRA), 43 CFR 10.8 (f), of the intent to repatriate cultural items in the possession of the Peabody Museum of Archaeology and Ethnology, Harvard University, Cambridge, MA, that meet the definition of unassociated funerary objects under 25 U.S.C. 3001.

This notice is published as part of the National Park Service's administrative responsibilities under NAGPRA, 25 U.S.C. 3003 (d)(3). The determinations within this notice are the sole responsibility of the museum, institution, or Federal agency that has control of the cultural items. The National Park Service is not responsible for the determinations within this notice.

The two cultural items are one bag of bark fragments and one box of brass kettle fragments.

The cultural items were collected from West Warwick, Kent County, RI, by Dave Straight in 1957 and were donated to the Peabody Museum of Archaeology and Ethnology by the Massachusetts Archaeological Society through Maurice Robbins in the same year. Museum documentation indicates that the cultural items were recovered with human remains, which are not in the possession of the Peabody Museum of Archaeology and Ethnology.

The interment from which the cultural items derive most likely dates to the postcontact period or later (post-A.D. 1500). Copper and brass kettles were European trade items, and therefore support a postcontact temporal context for the burial. In addition, the cultural items were described in museum documentation as “Narragansett,” and such a specific attribution suggests that the burial dates to the Historic period. The burial context indicates that the burial was of a Native American. Oral tradition and historical documentation indicate that West Warwick, RI, is within the aboriginal and historic homeland of the Narragansett people during the Contact period. The present-day tribe representing the Narragansett people is the Narragansett Indian Tribe of Rhode Island.

Officials of the Peabody Museum of Archaeology and Ethnology have determined that, pursuant to 25 U.S.C. 3001 (3)(B), the cultural items are reasonably believed to have been placed with or near individual human remains at the time of death or later as part of the death rite or ceremony and are believed, by a preponderance of the evidence, to have been removed from a specific burial site of a Native American individual. Officials of the Peabody Museum of Archaeology and Ethnology also have determined that, pursuant to 25 U.S.C. 3001 (2), there is a relationship of shared group identity that can be reasonably traced between the unassociated funerary objects and the Narragansett Indian Tribe of Rhode Island.

Representatives of any other Indian tribe that believes itself to be culturally affiliated with the unassociated funerary objects should contact Patricia Capone, Repatriation Coordinator, Peabody Museum of Archaeology and Ethnology, Harvard University, 11 Divinity Avenue, Cambridge, MA 02138, telephone (617) 496-3702, before January 9, 2004. Repatriation of the unassociated funerary objects to the Narragansett Indian Tribe of Rhode Island may proceed after that date if no additional claimants come forward.

The Peabody Museum of Archaeology and Ethnology is responsible for notifying the Narragansett Indian Tribe of Rhode Island that this notice has been published.

Dated: October 29, 2003.
John Robbins,
Assistant Director, Cultural Resources.

[FR Doc. 03-30567 Filed 12-9-03; 8:45 am]

BILLING CODE 4310-50-S